DEPARTMENT OF THE INTERIOR

Bureau of Land Management

[CA-360-1430-EU]

Notice of Intent for Amendment of Redding Resource Management Plan (RMP)

AGENCY: Bureau of Land Management, Interior.

ACTION: Notice of intent.

SUMMARY: The Bureau of Land Management (BLM) Redding Field Office intends to amend the Redding Resource Management Plan (RMP), changing the existing language of the RMP which specifies that the primary means for land tenure adjustment will be through land exchanges. At present land sales are allowed only for small-acreage, low-value parcels. The proposed change would enable disposal of lands by sales or exchanges, or by legislative transfer. This amendment would not change the status of lands presently identified for retention or for disposal in the RMP. Sale proceeds will be used in the same manner as exchange properties, for the acquisition of lands in those areas identified for acquisition in the RMP, pursuant to the Federal Land Transaction Facilitation Act (FLTFA), dated July 25, 2000.

DATES: The Bureau of Land Management must receive your written scoping comments on or before May 11, 2005.

ADDRESSES: Please send your written scoping comments to the Bureau of Land Management, Redding Field Office, 355 Hemsted Drive, Redding, CA 96002, attention Ilene Emry. All submissions from organizations or businesses will be made available for public inspection in their entirety. Individuals may request confidentiality with respect to their name, address, and phone number. If you wish to have your name or street address withheld from public review, or from disclosure under the Freedom of Information Act, the first line of the comment should start with the words “CONFIDENTIALITY REQUEST” in uppercase letters in order for BLM to comply with your request. Such request will be honored to the extent allowed by law. Comment contents will not be kept confidential.

FOR FURTHER INFORMATION CONTACT: Ilene Emry, Redding Field Office, 355 Hemsted Drive, Redding, CA, 96002; 530-224-2100 or by e-mail to iemry@ca.blm.gov.

SUPPLEMENTARY INFORMATION: The Redding Resource Management Plan (RMP) was approved on July 27, 1993. One of the goals of the RMP is to consolidate approximately 1000 scattered public parcels into more manageable units. The primary tool for consolidation has been the land exchange process. Prior to the passage of Federal Land Transaction Facilitation Act (FLTFA) July 25, 2000 there was no mechanism for proceeds from the sale of public land to be retained by the Redding Field Office to acquire inholdings and other lands needed to facilitate effective resource management. Sale of public land is only allowed for small uneconomical parcels in the current RMP. Since the completion of the RMP in 1993, the FTLFA was approved allowing sale proceeds to be used by the Redding Field Office for the goal as established in the RMP of acquiring lands with greater resource values. The initial focus of these acquisitions will be in the Sacramento Bend Area of Critical Environmental Concern. Secondary areas where additional acquisitions will be completed include the Trinity River corridor and Interlakes Special Recreation Management Area.

BLM will notify the public through local news media and BLM website when the draft plan amendment and environmental assessment will be available for public comment. Preliminary issues and concerns have been identified by BLM personnel, other agencies, and individuals. Disciplines involved in the planning process will include specialists with expertise in wildlife management, minerals and geology, outdoor recreation, archaeology, lands and realty, and botany. The alternative to the proposed action will be the No Action Alternative (continue present management actions).

Dated: February 23, 2005.
Steven W. Anderson,
Field Manager.

[FR Doc. 05-7109 Filed 4-8-05; 8:45 am]

BILLING CODE 4310-40-P